DEPARTMENT OF HOMELAND SECURITY

[Docket No. DHS-2025-0026]

Federal Emergency Management Agency Review Council; Notice of Meeting

AGENCY: Office of Partnership and Engagement, Department of Homeland Security.

ACTION: Open Federal advisory committee meeting.

SUMMARY: The Office of Partnership and Engagement is publishing this notice that the Federal Emergency Management Agency Review Council (“Council”) will meet in person on Wednesday, July 9, 2025. This meeting will be open virtually to members of the public. This meeting will be led by the Secretary of Homeland Security and the Secretary of Defense to provide updates from the Council Members.

DATES: Meeting Registration: Registration to attend the meeting is required and must be received via email no later than 5 p.m. Eastern Daylight Time on Tuesday, July 8, 2025. The meeting is scheduled for Wednesday, July 9, 2025, from 2 p.m. to 3 p.m. Eastern Daylight Time. Members of the public will be able to attend the meeting virtually. The meeting may end early if the Council has completed its business.

ADDRESSES: The Council meeting location is to be determined. Members of the public may attend virtually following the process outlined below. For those attending the meeting you will be in listen-only mode.

Federal eRulemaking Portal: http://www.regulations.gov. Follow the instructions for submitting comments.

• Email: FEMAreviewcouncil@hq.dhs.gov. Include Docket No. DHS-2025-0026 in the subject line of the message.

• Mail: Patrick Powers, Designated Federal Officer of the Federal Emergency Management Agency Review Council, Office of Partnership and Engagement, Mailstop 0385, Department of Homeland Security, 2707 Martin Luther King Jr Ave SE, Washington, DC 20032.

Instructions: All submissions received must include the words “Department of Homeland Security” and “DHS-2025-0026”, the docket number for this action. Comments received will be posted without alteration at http://www.regulations.gov, including any personal information provided. You may wish to review the Privacy and Security Notice found via a link on the homepage of www.regulations.gov.

Docket: For access to the docket to read comments received by the Council, go to http://www.regulations.gov, search “DHS-2025-0026,” “Open Docket Folder” to view the comments.

FOR FURTHER INFORMATION CONTACT: Patrick Powers, Designated Federal Officer, President's Federal Emergency Management Agency Review Council at (202)891-2283 or FEMAreviewcouncil@hq.dhs.gov.

SUPPLEMENTARY INFORMATION: On January 24, 2025, the President established the Federal Emergency Management Agency Review Council through Executive Order 14180, “Council to Assess the Federal Emergency Management Agency.” Notice of this meeting is given under the Federal Advisory Committee Act, Pub. L. 117-286 (5 U.S.C. 1009 (a), (d)), which requires each advisory committee meeting to be open to the public unless the President, or the head of the agency to which the advisory committee reports, determines that a portion of the meeting may be closed to the public in accordance with 5 U.S.C. 552b(c).

Agenda: The Council will meet in an open session from 2 p.m. to 3 p.m. Eastern Daylight Time. The meeting will include: (1) Remarks and updates from Council leadership; (2) Open panel discussion.

Meeting instructions for virtual attendance. Members of the public may register to participate in this Council meeting under the following procedures. Each individual must provide their full legal name and email address by 5 p.m. Eastern Daylight Time on Tuesday, July 8, 2025, to Patrick Powers, Designated Federal Officer of the President's Federal Emergency Management Agency Review Council, via email to FEMAreviewcouncil@hq.dhs.gov. Members of the public who have registered to participate will be provided the agenda and virtual link. For more information about the Council, please visit our website: https://www.dhs.gov/federal-emergency-management-agency-review-council.

The Council is committed to ensuring all participants have equal access regardless of disability status. If you require a reasonable accommodation due to a disability to fully participate, please contact Patrick Powers at FEMAreviewcouncil@hq.dhs.gov as soon as possible.

Dated: June 18, 2025.
Patrick Powers,
Designated Federal Officer, Federal Emergency Management Agency Review Council, Department of Homeland Security.

[FR Doc. 2025-11506 Filed 6-20-25; 8:45 am]

BILLING CODE 9112-FN-P